DEPARTMENT OF AGRICULTURE

Privacy Act of 1974; System of Records

AGENCY: Office of the Chief Information Officer (OCIO).

ACTION: Notice of a new System of Records.

SUMMARY: In accordance with the Privacy Act of 1974, as amended, the U.S. Department of Agriculture (USDA), Office of the Chief Information Officer (OCIO), proposes to establish a new system of records entitled, Freedom of Information Act (FOIA) and Privacy Act (PA) Requests and Administrative Appeals Files, to cover both electronic and paper files created during the processing of access requests and appeals under the FOIA and PA and amendment requests under the PA in all USDA components with the exception of the Office of the Inspector General (OIG) whom maintains its own system of records for these types of files. The OCIO is also deleting USDA/OCIO-01—Freedom of Information Act Express (FX) published at 76 FR 54190 (August 31, 2011) because the new system would be duplicative.

DATES: This notice will be effective without further notice on June 4, 2018 unless modified by a subsequent notice to incorporate comments received from the public. Written or electronic comments must be received by the contact person listed below on or before May 3, 2018 to be assured consideration.

ADDRESSES: The public, Office of Management and Budget (OMB), and Congress are invited to submit any comments to USDA, Attn: Department FOIA Officer, Office of the Chief Information Officer, USDA, 1400 Independence Avenue SW, Room 428-W, Washington, DC 20250, or by email to USDAFOIA@ocio.usda.gov.

FOR FURTHER INFORMATION CONTACT: Alexis R. Graves, Department FOIA Officer, Office of the Chief Information Officer, USDA, 1400 Independence Avenue SW, Room 428-W, Washington, DC 20250.

SUPPLEMENTARY INFORMATION: This system of record notice (SORN) extends the coverage previously provided in USDA/OCIO-01—Freedom of Information Act Express (FX) to include other internal tracking systems in addition to electronic and paper files. As such, the new system conveys updated system locations, categories of records, routine uses one of which permits records to be provided to the National Archives and Records Administration, Office of Government Information Services for purposes set forth under 5 U.S.C. 552(h)(2)(A-B) and (3), storage, safeguards, retention and disposal, system manager and address, notification procedures, records access, and contesting procedures.

Dated: March 29, 2018.
Stephen L. Censky,
Deputy Secretary.

SYSTEM NAME AND NUMBER

Freedom of Information Act (FOIA) and Privacy Act (PA) Requests and Administrative Appeals Files. USDA/OCIO-03.

SECURITY CLASSIFICATION:

None.

SYSTEM LOCATION:

The records in this system are maintained at 1400 Independence Ave. SW, Washington, DC 20250. n USDA's enterprise wide tracking system, in other tracking systems maintained by USDA components, and in offices throughout the United States, Puerto Rico and the U.S. Virgin Islands, and USDA offices abroad.

SYSTEM MANAGER(S):

Ravoyne Payton, Associate Chief Information Officer; Policy, E-Government and Fair Information Practices; 1400 Independence Avenue, Room 428-W, Washington, DC 20250

A listing of the system managers and addresses by USDA component is available at http://www.dm.usda.gov/foia/poc.htm.

AUTHORITY FOR MAINTENANCE OF THE SYSTEM:

FOIA, 5 U.S.C. 552, as amended; The Privacy Act of 1974, 5 U.S.C. 552a, as amended.

PURPOSE(S) OF THE SYSTEM:

Only authorized USDA FOIA and PA officials will utilize this system to effectively monitor and track access requests and administrative appeals under the FOIA and PA; to process access requests under the FOIA and PA; to amend requests under the PA; to manage fees and calculations under the FOIA; and to satisfy USDA's reporting obligations under the FOIA and PA.

CATEGORIES OF INDIVIDUALS COVERED BY THE SYSTEM:

This system contains records on individuals or their representatives who have submitted FOIA or PA requests for records and/or FOIA administrative appeals with the USDA; individuals whose FOIA or PA requests for records have been referred to the USDA by other Federal agencies; individuals who are the subject of or are named in such FOIA or PA requests or appeals; attorneys or other persons representing individuals submitting such FOIA or PA requests and appeals; and/or the USDA personnel assigned to handle such FOIA or PA requests and appeals.

CATEGORIES OF RECORDS IN THE SYSTEM:

This system consists of records created or compiled in response to FOIA requests, PA requests or both FOIA/PA requests for records or subsequent administrative appeals to include: The requester's name, address, telephone number, email address; amount of fees paid, and payment delinquencies, if any; the original requests and administrative appeals; responses to such requests and appeals; all related memoranda, correspondence, notes, and other related or supporting documentation, summary of log, and in some instances copies of requested records and records under administrative appeal.

Note: Since these FOIA/PA case records contain inquiries and requests seeking access to records in other USDA systems of records subject to the PA, information about individuals from any of these other systems may become part of this FOIA and PA File System.

RECORD SOURCE CATEGORIES:

Information in this system of records is obtained from the individual submitting the request, USDA officials, and other Federal agencies.

ROUTINE USES OF RECORDS MAINTAINED IN THE SYSTEM, INCLUDING CATEGORIES OF USERS AND PURPOSES OF SUCH USES:

USDA may disclose information contained in a record in this system of records under the routine uses listed in this system of records without the consent of the individual if the disclosure is compatible with a purpose for which the record was collected.

A. To a Member of Congress or staff acting upon the Member's behalf when the Member or staff requests the information on behalf of, and at the request of, the individual who is the subject of the record.

B. When a record on its face, or in conjunction with other records, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the information disclosed is relevant to any enforcement, regulatory, investigative or prosecute responsibility of the receiving entity.

C. To the National Archives and Records Administration for purposes of records management inspections conducted under the authority of 44 U.S.C. 2904 and 2906.

D. To the National Archives and Records Administration, Office of Government Information Services (OGIS), to the extent necessary to fulfill its responsibilities in 5 U.S.C. 552(h), to review administrative agency policies, procedures, and compliance with the Freedom of Information Act, and to facilitate OGIS' offering of mediation services to resolve disputes between persons making FOIA requests and administrative agencies.

E. To contractors, grantees, experts, consultants, students, and others performing or working on a contract, service, grant, cooperative agreement, or other assignment for the Federal government, when necessary to accomplish an agency function related to this system of records.

F. To an agency, organization, or individual for the purpose of performing audit or oversight operations as authorized by law, but only such information as is necessary and relevant to such audit or oversight function.

G. To a Federal agency in order to obtain advice and recommendations concerning matters on which the agency has specialized experience or particular competence, for use in making required determinations under the FOIA and PA.

H. To a submitter or subject of a record or information in order to obtain assistance to the Department in making a determination as to access or amendment.

I. To the appropriate agencies, entities, and persons when:

1. USDA suspects or has confirmed that the security or confidentiality of information in a system of records has been compromised;

2. USDA has determined that as a result of the suspected or confirmed compromise, there is a risk of harm to economic or property interests, identity theft or fraud, or harm to the security or integrity of systems or programs (whether maintained by the UDSA or another agency or entity) that rely upon the compromised information; and

3. The disclosure made to such agencies, entities, and persons is reasonably necessary to assist in connection with USDA's efforts to respond to the suspected or confirmed compromise and prevent, minimize, or remedy such harm for purposes of facilitating responses and remediation efforts in the event of a data breach.

POLICIES AND PRACTICES FOR STORAGE OF RECORDS:

Paper records are kept in file folders in locked file cabinets. Electronic records are kept in various computer databases, a web-based portal maintained by OCIO's service provider, and in electronic files maintained by the USDA's component offices.

POLICIES AND PRACTICES FOR RETRIEVAL OF RECORDS:

Electronic and paper records are generally retrieved by the name of the requester, component's tracking number, or the subject of the request.

POLICIES AND PRACTICES FOR RETENTION AND DISPOSAL OF RECORDS:

Records are retained and disposed of in accordance with the National Archives and Records Administration's General Records Schedule 14, but may be retained for a longer period as required by litigation, open investigation, and/or audit.

ADMINISTRATIVE, TECHNICAL, AND PHYSICAL SAFEGUARDS:

Information in this system is safeguarded in accordance with applicable laws, rules, and policies including USDA's automated systems security and access policies. In general, records and technical equipment are maintained in buildings with restricted access. The required use of password protection identification features and other system protection methods also restrict access. Access is limited to those employees who have an official need for access in order to perform their duty.

RECORD ACCESS PROCEDURES:

Records concerning initial requests under the FOIA and the Privacy Act and administrative appeals are maintained by the individual USDA component to which the initial request or administrative appeal was addressed or directed. Inquiries or requests for access regarding these records should be addressed to the particular USDA component maintaining the records. If the USDA component is unknown, contact the USDA Department FOIA Officer, Office of the Chief Information Officer, USDA, 1400 Independence Avenue SW, Room 428-W, Washington, DC 20250.

Your full name and current address should accompany requests for access. You will also be required at a minimum to sign your request. Your signature must either be notarized or submitted under 28 U.S.C. 1746, a law that permits statements to be made under penalty of perjury as a substitute for notarization. In addition, the request for access should (1) explain why you believe the USDA component would have information on you and (2) if known, when you believe the records would have been created. Without the above information, the USDA component may be unable to conduct an effective search, and your request may be denied due to lack of specificity or lack of compliance with applicable regulations.

Note: An individual, who is the subject of a record in the system, may access those records that are not exempt from disclosure. A determination whether a record may be accessed will be made at the time a request is received.

If you are seeking records pertaining to another living individual, you must obtain a statement from that individual certifying their agreement for you to access their records.

CONTESTING RECORD PROCEDURES:

When seeking to contest or amend information about you maintained in the system, direct your requests to the USDA component you believe maintains the record. Be sure to state clearly and concisely what information is being contested, the reasons for contesting it, and the proposed amendment to the information sought.

NOTIFICATION PROCEDURES:

Same as Record Access Procedures.

EXEMPTIONS PROMULGATED FOR THE SYSTEM:

During the course of a FOIA and/or PA action, material from systems of records may become part of the case records in this system of records. To the extent that copies of these records from these other systems of records are entered into these PA case records, USDA hereby claims the same status for the records as claimed in the original, primary system of records from which they originated, or in which they are maintained.

HISTORY:

This new system of record notice broadens coverage beyond the enterprise wide tracking system previously referenced in soon to be deleted USDA/OCIO-01—Freedom of Information Act Express (FX) to include other internal tracking systems in addition to electronic and paper files. The new notice also conveys updates to the system location, categories of records, routine uses one of which permits records to be provided to the National Archives and Records Administration, Office of Government Information Services for purposes set forth under 5 U.S.C. 552(h)(2)(A-B) and (3), storage, safeguards, retention and disposal, system manager and address, notification procedures, records access, and contesting procedures.

[FR Doc. 2018-06759 Filed 4-2-18; 8:45 am]

BILLING CODE 3410-KR-P